DEPARTMENT OF TRANSPORTATION

Federal Aviation Administration

14 CFR Part 39

[Docket No. FAA-2008-0293; Directorate Identifier 2007-NM-287-AD; Amendment 39-15582; AD 2008-13-19]

RIN 2120-AA64

Airworthiness Directives; ATR Model ATR42-200, -300, -320, -500 Airplanes; and Model ATR72-101, -201, -102, -202, -211, -212, and -212A Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

A recent incident evidenced that some failures of the Pitot probe heating resistance may not be seen by the low current detection system on aircraft not equipped with [ATR] modification 05469 * * *. In some conditions, an out of tolerance resistance, failing to provide a proper Pitot probe de-icing could not be detected.

* * * * *

The unsafe condition is that undetected icing of the pitot probe could produce incorrect airspeed readings, which could lead to loss of control of the airplane. We are issuing this AD to require actions to correct the unsafe condition on these products.

DATES: This AD becomes effective August 6, 2008. The Director of the Federal Register approved the incorporation by reference of certain publications listed in this AD as of August 6, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on March 13, 2008 (73 FR 13496). That NPRM proposed to correct an unsafe condition for the specified products. The MCAI states:

A recent incident evidenced that some failures of the Pitot probe heating resistance may not be seen by the low current detection system on aircraft not equipped with [ATR] modification 05469 (SB (Service Bulletin) ATR42-30-0072 or ATR72-30-1042). In some conditions, an out of tolerance resistance, failing to provide a proper Pitot probe de-icing could not be detected.

To address this unsafe condition, this Airworthiness Directive (AD) requires repetitive verification of the Pitot probes' resistance and replacement of any defective probes, and ultimate replacement of the three low current sensors for Captain, First Officer and Standby Pitot probes.

The unsafe condition is that undetected icing of the pitot probe could produce incorrect airspeed readings, which could lead to loss of control of the airplane. You may obtain further information by examining the MCAI in the AD docket.

Comments

We gave the public the opportunity to participate in developing this AD. We received no comments on the NPRM or on the determination of the cost to the public.

Actions Since the NPRM Was Issued

ATR has issued revisions to two of the service information documents identified in the NPRM: Avions de Transport Regional Service Bulletins ATR42-30-0074 and ATR72-30-1044, both Revision 01, both dated September 26, 2007. We have changed paragraphs (f)(1) and (h) accordingly, and added paragraph (f)(3) to give credit for actions done per the original versions of those service bulletins.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 51 products of U.S. registry. We also estimate that it will take about 4 work-hours per product to comply with the basic requirements of this AD. The average labor rate is $80 per work-hour. Required parts will cost about $1,880 per product. Where the service information lists required parts costs that are covered under warranty, we have assumed that there will be no charge for these parts. As we do not control warranty coverage for affected parties, some parties may incur costs higher than estimated here. Based on these figures, we estimate the cost of this AD to the U.S. operators to be $112,200, or $2,200 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-13-19 ATR—Gie Avions de Transport Régional (Formerly Aerospatiale): Amendment 39-15582. Docket No. FAA-2008-0293; Directorate Identifier 2007-NM-287-AD.

Effective Date

(a) This airworthiness directive (AD) becomes effective August 6, 2008.

Affected ADs

(b) None.

Applicability

(c) This AD applies to ATR Model ATR42-200, -300, -320, and -500 airplanes and Model ATR72-101, -201, -102, -202, -211, -212, and -212A airplanes; certificated in any category; all serial numbers; except for airplanes having ATR Modification 05469 installed in production, or installed in service in accordance with Avions de Transport Regional Service Bulletin ATR42-30-0072 or ATR72-30-1042, both Revision l, both dated June 1, 2005; as applicable.

Subject

(d) Air Transport Association (ATA) of America Code 30: Ice and Rain Protection.

Reason

(e) The mandatory continuing airworthiness information (MCAI) states:

A recent incident evidenced that some failures of the Pitot probe heating resistance may not be seen by the low current detection system on aircraft not equipped with [ATR] modification 05469 (SB (Service Bulletin) ATR42-30-0072 or ATR72-30-1042). In some conditions, an out of tolerance resistance, failing to provide a proper Pitot probe de-icing could not be detected.

To address this unsafe condition, this Airworthiness Directive (AD) requires repetitive verification of the Pitot probes' resistance and replacement of any defective probes, and ultimate replacement of the three low current sensors for Captain, First Officer and Standby Pitot probes.

The unsafe condition is that undetected icing of the pitot probe could produce incorrect airspeed readings, which could lead to loss of control of the airplane.

Actions and Compliance

(f) Unless already done, do the following actions.

(1) Within 550 flight hours after the effective date of this AD, measure the heating resistance of the three pitot probes, in accordance with the Accomplishment Instructions of Avions de Transport Regional Service Bulletin ATR42-30-0074 or ATR72-30-1044, both Revision 01, both dated September 26, 2007, as applicable. If any resistance exceeds 50 ohms, before next flight, replace the pitot probe in accordance with the Accomplishment Instructions of the applicable service bulletin. Repeat the measurement thereafter at intervals not to exceed 550 flight hours, until the current sensors have been replaced as required by paragraph (f)(2) of this AD.

(2) Within 5,000 flight hours after the effective date of this AD, replace the three pitot probe current sensors, in accordance with the Accomplishment Instructions of Avions de Transport Regional Service Bulletin ATR42-30-0072 or ATR72-30-1042, both Revision 1, both dated June 1, 2005, as applicable. Doing this paragraph ends the repetitive inspections required by paragraph (f)(1) of this AD.

(3) Actions are also acceptable for compliance with the requirements of paragraph (f)(1) of this AD if done before the effective date of this AD in accordance with the Accomplishment Instructions of Avions de Transport Regional Service Bulletin ATR42-30-0074 or ATR72-30-1044, both dated May 14, 2007, as applicable.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0179, dated July 31, 2007, and the service information described in Table 1 of this AD, for related information.

Table 1.—Service Information
Avions de Transport Regional Service Bulletin | Revision | Date
ATR42-30-0072 | 1 | June 1, 2005.
ATR42-30-0074 | 01 | September 26, 2007.
ATR72-30-1042 | 1 | June 1, 2005.
ATR72-30-1044 | 01 | September 26, 2007.

Material Incorporated by Reference

(i) You must use the applicable service information specified in Table 2 of this AD to do the actions required by this AD, unless the AD specifies otherwise. Avions de Transport Regional Service Bulletin ATR42-30-0072, Revision, 1 dated June 1, 2005, contains the following effective pages:

Page Nos. | Revision level shown on page | Date shown on page
1, 2 | 1 | June 1, 2005.
3-9 | Original | October 21, 2004.

(1) The Director of the Federal Register approved the incorporation by reference of this service information under 5 U.S.C. 552(a) and 1 CFR part 51.

(2) For service information identified in this AD, contact ATR, 316 Route de Bayonne, 31060 Toulouse, Cedex 03, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Avions de Transport Regional Service Bulletin | Revision | Date
ATR42-30-0072 | 1 | June 1, 2005.
ATR42-30-0074 | 01 | September 26, 2007.
ATR72-30-1042 | 1 | June 1, 2005.
ATR72-30-1044 | 01 | September 26, 2007.

Issued in Renton, Washington, on June 8, 2008.
Michael Kaszycki,
Acting Manager, Transport Airplane Directorate, Aircraft Certification Service.

[FR Doc. E8-14191 Filed 7-1-08; 8:45 am]

BILLING CODE 4910-13-P